DEPARTMENT OF TRANSPORTATION

Federal Highway Administration

Notice To Rescind Notice of Intent To Prepare an Environmental Impact Statement: Loop 1604 From I-35 to US 90, Bexar County, TX

AGENCY: Federal Highway Administration, DOT.

ACTION: Rescind notice of intent to prepare an Environmental Impact Statement.

SUMMARY: The Federal Highway Administration (FHWA), in cooperation with the Texas Department of Transportation (TxDOT) and the Alamo Regional Mobility Authority (RMA), is issuing this notice to advise the public that the Notice of Intent (NOI) to prepare an Environmental Impact Statement (EIS) for the proposed improvements to Loop 1604 from I-35 to US 90 is rescinded. The NOI was originally published in the Federal Register on July 31, 2009 (Volume 74, No. 146, Page 38260) and an amended NOI was published on April 13, 2010 (Volume 75, No. 70, Page 18941) changing the limits of the project.

FOR FURTHER INFORMATION CONTACT: Mr. Salvador Deocampo, District Engineer, District A, Federal Highway Administration (FHWA), Texas Division, 300 East 8th Street, Rm. 826, Austin, Texas 78701, Telephone 512-536-5950.

SUPPLEMENTARY INFORMATION: FHWA in cooperation with TxDOT and the Alamo RMA issued a NOI on July 31, 2009, advising the public that they would be preparing an EIS for transportation improvements to Loop 1604 from FM 1957 to I-35 North, a distance of 32.35 miles. FHWA, TxDOT and Alamo RMA then issued an amended NOI to advise the pubic of changes to the aforementioned EIS for proposed Loop 1604 improvements. Specifically, the southwestern limit of the proposed improvements changed from FM 1957 to US 90 for a total distance of approximately 37 miles. The change to the limits of the proposed improvements was consistent with the San Antonio-Bexar County Metropolitan Planning Organization's (MPO) Mobility 2035 Plan (December 2009) and was done as part of a response to comments received during the first scoping meetings held in October 2009.

Since then, changes in the MPO's Mobility 2035 Plan and detailed analysis of the corridor have led to a decision to significantly change the design concept and scope of the proposed project and implementation. It is anticipated the project will be analyzed in two or more independent projects with different scopes and separate environmental documents.

Issued on: April 30, 2013.
Salvador Deocampo,
District Engineer.

[FR Doc. 2013-10789 Filed 5-6-13; 8:45 am]

BILLING CODE 4910-22-P